DEPARTMENT OF LABOR

Employment And Training Administration

Solicitation for Grant Applications (SGA); Workforce Investment Act—Grants for Workforce Investment Boards

AGENCY: Employment and Training Administration (ETA), Labor.

ACTION: Notice; correction.

SUMMARY: The Employment and Training Administration published a document in the Federal Register on March 28, 2005, concerning the availability of grant funds for eligible Workforce Investment Boards that has demonstrated successfully the ability to form working partnerships with grassroots faith-based community organizations.

This correction is to provide additional clarification on eligibility information.

FOR FURTHER INFORMATION CONTACT: Eric Luetkenhaus, Grant Officer, Division of Federal Assistance, (202) 693-3109.

Corrections

In the Federal Register of March 28, 2005, in FR Volume 70, Number 58:

—On page 15654, in the third column, III Eligibility Information, 1. Eligible Applicants is hereby edited to include the following:

• Current or past grantees eligibility—Those Workforce Investment Boards (WIBs) who were awarded grants as a result of the 2004 DOL solicitation (SGA/DFA 04-103) are not eligible to apply. All other WIBs may apply if they meet the eligibility requirements in section III of this SGA.

• Subawardees affiliation with a national organization—An applicant may use an affiliate of a national organization as a subawardee as long as the affiliate can demonstrate that it meets the eligibility requirements in this SGA.

The following Web site will provide responses to frequently asked questions that are raised by applicants during the period of grant application preparation: http://www.doleta.gov/usworkforce/.

Signed in Washington, DC, this 6th day of April, 2005.
Eric D. Luetkenhaus,
Grant Officer.

[FR Doc. E5-1659 Filed 4-8-05; 8:45 am]

BILLING CODE 4510-30-P